DEPARTMENT OF THE INTERIOR

Bureau of Land Management

[18X LLUT030000 L17110000.XZ0000]

Notice of Intent To Prepare Resource Management Plans for the Grand Staircase-Escalante National Monument—Grand Staircase, Kaiparowits, and Escalante Canyon Units and Federal Lands Previously Included in the Monument That Are Excluded From the Boundaries and Associated Environmental Impact Statement, Utah

AGENCY: Bureau of Land Management, Interior.

ACTION: Notice of intent.

SUMMARY: In compliance with the National Environmental Policy Act of 1969, as amended (NEPA), the Federal Land Policy and Management Act of 1976, as amended (FLPMA), and Presidential Proclamation 6920 as modified by Proclamation 9682, the Bureau of Land Management (BLM) Grand Staircase-Escalante National Monument (GSENM) and Kanab Field Office, Kanab, Utah, intends to prepare Resource Management Plans (RMPs) for the GSENM-Grand Staircase, Kaiparowits, and Escalante Canyon Units, and Federal lands previously included in the Monument that were excluded from the boundaries by Proclamation 9682. The BLM will prepare a single Environmental Impact Statement (EIS) to satisfy the NEPA requirements for these RMPs. By this Notice, the BLM is announcing the beginning of the scoping process to solicit public comments and identify issues. The RMPs will replace the existing Grand Staircase Escalante National Monument Management Plan (the “1999 Monument Management Plan”), which was completed in 1999.

DATES: This Notice initiates the public scoping process for the RMPs and associated EIS. The date(s) and location(s) of any scoping meetings will be announced at least 15 days in advance through local media, newspapers and the BLM website at: https://www.blm.gov/utah. In order to be considered in the Draft EIS, all comments must be received prior to March 19, 2018 or 15 days after the last public meeting, whichever is later. We will provide additional opportunities for public participation upon publication of the Draft EIS.

ADDRESSES: You may submit comments on issues and planning criteria related to the planning process by any of the following methods:

• Website: Grand Staircase-Escalante National Monument: https://goo.gl/EHvhbc.

• Mail: 669 S Hwy. 89A Kanab, UT 84741.

Documents pertinent to this proposal may be examined at the GSENM and the BLM Kanab Field Office.

FOR FURTHER INFORMATION CONTACT: Matthew Betenson, Associate Monument Manager, telephone (435) 644-1200; address 669 S Hwy. 89A Kanab, UT 84741; email BLM_UT_CCD_monuments@blm.gov. Contact Mr. Betenson to add your name to our mailing list. Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: This document provides notice that the BLM GSENM and Kanab Field Office, Kanab, Utah, intend to prepare RMPs for the GSENM-Grand Staircase, Kaiparowits, and Escalante Canyon Units, and Federal lands previously included in the GSENM that are excluded from the boundaries by Proclamation 9682. The BLM will prepare a single EIS for this planning process. This document announces the beginning of the scoping process, and seeks public input on issues and planning criteria. The planning area is located in Kane and Garfield Counties, Utah and encompasses approximately 1.87 million acres of public land.

On December 4, 2017, President Donald Trump signed Presidential Proclamation 9682 modifying the boundaries of the GSENM as established by Proclamation 6920 to exclude from designation and reservation approximately 861,974 acres of land. Lands that remain part of the GSENM are included in three units, known as the Grand Staircase, Kaiparowits, and Escalante Canyons Units of the monument and are reserved for the care and management of the objects of historic and scientific interest described in Proclamation 6920 as modified by Proclamation 9682.

The purpose of the public scoping process is to determine relevant issues that will inform the scope of the environmental analysis, including alternatives, and guide the planning process. Preliminary issues for the planning area have been identified by BLM personnel; Federal, State, and local agencies; and other stakeholders. These preliminary issues include paleontology, geology, cultural and historic resources, travel management, livestock grazing, vegetation and fire management, outdoor recreation, wildlife, and other resources. Preliminary planning criteria include: (1) The public planning process for the RMPs will be guided by Presidential Proclamation 6920 as modified by Proclamation 9682 in addition to FLPMA and NEPA. (2) Those Federal lands excluded from the Monument will remain in Federal ownership and will be managed by the BLM under applicable laws. (3) The BLM will use current scientific information, and results of inventory, monitoring, and coordination to determine appropriate management. (4) The BLM will strive for consistency of management decisions with other adjoining planning jurisdictions, both Federal and non-Federal. (5) Decisions made in the planning process will only apply to Federal lands and, where appropriate, to split-estate lands where the subsurface mineral estate is managed by the BLM. (6) Existing Wilderness Study Areas (WSAs) will continue to be managed to prevent impairment and ensure continued suitability for designation as wilderness. Should Congress release all or part of a WSA from wilderness study, resource management will be determined by preparing an amendment to the RMPs. (7) A baseline reasonably foreseeable development scenario will be developed for oil and gas and other mineral resources for Federal lands previously included in the GSENM that are now excluded from the monument boundaries. (8) The BLM will consider changes to off-highway vehicle (OHV) area designations. (9) The public is invited to nominate or recommend areas on public lands that are excluded from the modified monument boundaries as potentially new special management areas as part of this planning process (BLM Manual 1613.3.31). (10) Parties interested in leasing and development of Federal coal in areas that are excluded from the monument should provide coal resource data for their area(s) of interest. Specifically, information is requested on surface resource values related to the 20 coal unsuitability criteria described at 43 CFR part 3461. This information will be used for any necessary updating of coal screening determinations (43 CFR 3420.1-4) and in the environmental analysis, completion of which would be necessary before any proposal to lease or develop Federal coal in such areas.

You may submit comments on issues and planning criteria in writing to the BLM at any public scoping meeting, or you may submit them to the BLM using one of the methods listed in the ADDRESSES section above. To be most helpful, and to ensure inclusion in the Draft EIS, you should submit comments prior to the close of the 60-day scoping period or 15 days after the last public meeting, whichever is later. Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plans, and will place them into one of three categories:

1. Issues to be resolved in the plans;

2. Issues to be resolved through policy or administrative action; or

3. Issues beyond the scope of the plans.

The BLM will provide an explanation in the Draft RMP/Draft EIS as to why an issue was placed in category two or three. The public is also encouraged to help identify any management questions and concerns that should be addressed in the plans. The BLM will work collaboratively with interested parties to identify the management decisions that are best suited to local, regional, and national needs and concerns.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given full consideration consistent with these authorities and policies. Federal, State, and local agencies, along with tribes and other stakeholders that may be interested in or affected by the proposed action that the BLM is evaluating, are invited to participate in the scoping process and, if eligible, may request or be requested by the BLM to participate in the development of the environmental analysis as a cooperating agency.

The BLM will use an interdisciplinary approach to develop the plan in order to consider the variety of resource issues and concerns identified. Specialists with expertise in the following disciplines will be involved in the planning process: Rangeland management, minerals and geology, forestry, outdoor recreation, archaeology, paleontology, wildlife and fisheries, lands and realty, hydrology, soils, sociology and economics.

Authority: 40 CFR 1501.7, 43 CFR 1610.2.

Edwin L. Roberson,
State Director.

[FR Doc. 2018-00518 Filed 1-12-18; 8:45 am]

BILLING CODE 4310-DQ-P